FEDERAL COMMUNICATIONS COMMISSION

[CC Docket No. 92-237; FR ID 42991]

Next Meeting of the North American Numbering Council

AGENCY: Federal Communications Commission.

ACTION: Notice.

SUMMARY: In this document, the Commission released a public notice announcing the meeting of the North American Numbering Council (NANC), which will be held via video conference and available to the public via live internet feed.

DATES: Wednesday, October 13, 2021. The meeting will come to order at 2:00 p.m.

ADDRESSES: The meeting will be conducted via video conference and available to the public via the internet at http://www.fcc.gov/live.

FOR FURTHER INFORMATION CONTACT: Christi Shewman, Designated Federal Officer, at christi.shewman@fcc.gov or 202-418-0646. More information about the NANC is available at https://www.fcc.gov/about-fcc/advisory-committees/general/north-american-numbering-council.

SUPPLEMENTARY INFORMATION: The NANC meeting is open to the public on the internet via live feed from the FCC's web page at http://www.fcc.gov/live. Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice for accommodation requests; last minute requests will be accepted but may not be possible to accommodate. Members of the public may submit comments to the NANC in the FCC's Electronic Comment Filing System, ECFS, at www.fcc.gov/ecfs. Comments to the NANC should be filed in CC Docket No. 92-237. This is a summary of the Commission's document in CC Docket No. 92-237, DA 21-928, released July 29, 2021.

Proposed Agenda: At the October 13 meeting, the NANC members will introduce themselves, hear an overview of the working groups, and receive guidance from the Commission's Offices of General Counsel and Managing Director concerning federal advisory committee best practices. The NANC will also consider and vote on recommendations from the Call Authentication Trust Anchor working group on the deployment of STIR/SHAKEN by small voice service providers during the pendency of their extension from the STIR/SHAKEN implementation deadline. This agenda may be modified at the discretion of the NANC Chair and the Designated Federal Officers (DFO).

(5 U.S.C. App 2 § 10(a)(2))

Federal Communications Commission.
Daniel Kahn,
Associate Bureau Chief, Wireline Competition Bureau.

[FR Doc. 2021-17503 Filed 8-13-21; 8:45 am]

BILLING CODE 6712-01-P